DEPARTMENT OF LABOR

Employment and Training Administration

[TA-W-61,373]

Autolign Manufacturing Group, Inc., Milan, MI; Notice of Termination of Investigation

Pursuant to Section 221 of the Trade Act of 1974, as amended, an investigation was initiated on April 25, 2007, in response to a petition filed by a state agency representative on behalf of workers of Autolign Manufacturing Group, Inc., Milan, Michigan.

The Department was unable to locate an official of the company to obtain the information necessary to render a determination. Consequently, the investigation has been terminated.

Signed at Washington, DC, this 4th day of June 2007.
Linda G. Poole,
Certifying Officer, Division of Trade Adjustment Assistance.

[FR Doc. E7-11480 Filed 6-13-07; 8:45 am]

BILLING CODE 4510-FN-P